DEPARTMENT OF ENERGY

Federal Energy Regulatory Commission

[Docket No. RP03-620-000]

Portland Natural Gas Transmission System; Notice of Proposed Changes in FERC Gas Tariff

October 2, 2003.

Take notice that on September 26, 2003, Portland Natural Gas Transmission System (PNGTS) tendered for filing as part of its FERC Gas Tariff, Original Volume No. 1, with an effective date of November 1, 2003:

Seventh Revised Sheet No. 100

PNGTS states that it is also tendered for filing two alternate tariff sheets:

Alternate Fifth Revised Sheet No. 100, to be effective November 12, 2002; and

Alternate Sixth Revised Sheet No. 100, to be effective June 1, 2003.

PNGTS states that its filing proposes to reduce the Firm Transportation (FT) Seasonal Recourse Reservation Rate so that it is equal to 1.9 times the FT Recourse Reservation Rate. PNGTS states that the purpose of this change is to ensure that PNGTS offers seasonal service on a nondiscriminatory basis as directed by the Commission and to ensure that no existing or future seasonal contracts inadvertently raise issues regarding a trigger of the discount clause (referred to as Most Favored Nations or MFN clause) in PNGTS's FT contracts. PNGTS states that the primary tariff sheet reduces the seasonal recourse rate to equal 1.9 times the FT recourse rate effective November 1, 2003. PNGTS further states that, along with the primary tariff sheet, PNGTS is requesting that the Commission reconsider and vacate its June 9, 2003 Order in Docket No. RP02-13-010, which accepted the current seasonal recourse rate. PNGTS's alternate tariff sheets would reduce the seasonal recourse rate to equal 1.9 times the FT recourse rate effective as of November 12, 2002. PNGTS states that finally, in the event that the Commission declines to adopt the primary or alternate proposals, PNGTS requests that the Commission “grandfather” the two existing negotiated seasonal contracts, and continue to recognize those contracts as negotiated relative to the FT recourse rate.

PNGTS states that copies of this filing are being served on all jurisdictional customers and interested state commissions, as well as all parties in Docket No. RP02-13-000.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Comment Date: October 8, 2003.

Magalie R. Salas,
Secretary.

[FR Doc. E3-00023 Filed 10-8-03; 8:45 am]

BILLING CODE 6717-01-P